DEPARTMENT OF ENERGY

Federal Energy Regulatory Commission

Combined Notice of Filings #1

Take notice that the Commission received the following electric corporate filings:

Docket Numbers: EC24-105-000.

Applicants: ALLETE, Inc., Alloy Parent LLC.

Description: Application for Authorization Under Section 203 of the Federal Power Act of ALLETE, Inc.

Filed Date: 7/19/24.

Accession Number: 20240719-5259.

Comment Date: 5 p.m. ET 8/9/24.

Take notice that the Commission received the following electric rate filings:

Docket Numbers: ER23-1335-003.

Applicants: Ameren Illinois Company.

Description: Compliance Filing of Ameren Illinois Company.

Filed Date: 7/22/24.

Accession Number: 20240722-5142.

Comment Date: 5 p.m. ET 8/12/24.

Docket Numbers: ER24-1866-001.

Applicants: Power Authority of the State of New York, New York Independent System Operator, Inc.

Description: Tariff Amendment: Power Authority of the State of New York submits tariff filing per 35.17(b): NYPA Deficiency Response re: Formula Rate Template Revisions to be effective 7/1/2024.

Filed Date: 7/23/24.

Accession Number: 20240723-5054.

Comment Date: 5 p.m. ET 8/13/24.

Docket Numbers: ER24-2570-000.

Applicants: Southwest Power Pool, Inc.

Description: 205(d) Rate Filing: Revisions to Modify Make Whole Payments During Order No. 831 Conditions to be effective 10/16/2024.

Filed Date: 7/22/24.

Accession Number: 20240722-5207.

Comment Date: 5 p.m. ET 8/12/24.

Docket Numbers: ER24-2571-000.

Applicants: PJM Interconnection, L.L.C.

Description: 205(d) Rate Filing: Amended ISA, SA No. 5286; AC1-068/AC1-069 & Cancellation of ISA, SA No. 5290 to be effective 9/23/2024.

Filed Date: 7/22/24.

Accession Number: 20240722-5211.

Comment Date: 5 p.m. ET 8/12/24.

Docket Numbers: ER24-2572-000.

Applicants: PJM Interconnection, L.L.C.

Description: 205(d) Rate Filing: Amended ISA, SA No. 5409; AC1-166/AC1-165 & Cancellation of ISA, SA No. 5291 to be effective 9/23/2024.

Filed Date: 7/22/24.

Accession Number: 20240722-5220.

Comment Date: 5 p.m. ET 8/12/24.

Docket Numbers: ER24-2573-000.

Applicants: Old Dominion Electric Cooperative.

Description: 205(d) Rate Filing: Submission of Third Amended and Restated Wholesale Power Contracts to be effective 9/30/2024.

Filed Date: 7/23/24.

Accession Number: 20240723-5016.

Comment Date: 5 p.m. ET 8/13/24.

Docket Numbers: ER24-2574-000.

Applicants: PacifiCorp.

Description: Tariff Amendment: Termination of UAMPS Const Agmt Hyrum BTM Resource Modeling to be effective 8/31/2024.

Filed Date: 7/23/24.

Accession Number: 20240723-5042.

Comment Date: 5 p.m. ET 8/13/24.

Docket Numbers: ER24-2575-000.

Applicants: Tri-State Generation and Transmission Association, Inc.

Description: 205(d) Rate Filing: Notice of Cancellation of FERC Rate Schedule Nos. 113, 151, 153, and 177 to be effective 5/8/2024.

Filed Date: 7/23/24.

Accession Number: 20240723-5048.

Comment Date: 5 p.m. ET 8/13/24.

Docket Numbers: ER24-2575-000.

Applicants: Tri-State Generation and Transmission Association, Inc.

Description: Report Filing: Notice of Cancellation re Exhibit A to be effective N/A.

Filed Date: 7/23/24.

Accession Number: 20240723-5090.

Comment Date: 5 p.m. ET 8/13/24.

Docket Numbers: ER24-2576-000.

Applicants: Talen Conemaugh LLC.

Description: Initial rate filing: Reactive Service Rate Schedule, Req. for Expedited Action_Confidential Treatment to be effective 12/31/9998.

Filed Date: 7/23/24.

Accession Number: 20240723-5079.

Comment Date: 5 p.m. ET 8/13/24.

Docket Numbers: ER24-2577-000.

Applicants: Talen Keystone LLC.

Description: Initial rate filing: Reactive Service Rate Schedule, Req. for Expedited Action_Confidential Treatment to be effective 12/31/9998.

Filed Date: 7/23/24.

Accession Number: 20240723-5084.

Comment Date: 5 p.m. ET 8/13/24.

Docket Numbers: ER24-2578-000.

Applicants: Louisville Gas and Electric Company.

Description: 205(d) Rate Filing: LGEKU_Engineering and Procurement Svcs Agrmt RS 526 to be effective 9/22/2024.

Filed Date: 7/23/24.

Accession Number: 20240723-5096.

Comment Date: 5 p.m. ET 8/13/24.

Docket Numbers: ER24-2579-000.

Applicants: Kentucky Utilities Company.

Description: 205(d) Rate Filing: KU Concurrance E and P Rate Schedule No. 526 to be effective 9/22/2024.

Filed Date: 7/23/24.

Accession Number: 20240723-5104.

Comment Date: 5 p.m. ET 8/13/24.

Docket Numbers: ER24-2580-000.

Applicants: White Pine Hydro, LLC.

Description: Baseline eTariff Filing: Market-Based Rate Application to be effective 9/22/2024.

Filed Date: 7/23/24.

Accession Number: 20240723-5105.

Comment Date: 5 p.m. ET 8/13/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 23, 2024.
Debbie-Anne A. Reese,
Acting Secretary.

[FR Doc. 2024-16653 Filed 7-29-24; 8:45 am]

BILLING CODE 6717-01-P